NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before September 28, 2011. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

E-mail: request.schedule@nara.gov.

Fax: 301-837-3698.

Requesters must cite the control number, which appears in parentheses after the name of the agency which submitted the schedule, and must provide a mailing address. Those who desire appraisal reports should so indicate in their request.

FOR FURTHER INFORMATION CONTACT: Laurence Brewer, Director, Records Management Services (ACNR), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending:

1. Department of Agriculture, Center for Nutrition Policy and Promotion (N1-462-11-1, 1 item, 1 temporary item). Master files of an electronic information system used to facilitate the release of dietary and physical activity guideline information.

2. Department of the Army, Agency-wide (N1-AU-10-64, 1 item, 1 temporary item). Master files of an electronic information system used to maintain munitions expenditure records. The system includes mapping and surface data, range and maneuver information, and information on the types of munitions expended.

3. Department of the Army, Agency-wide (N1-AU-11-14, 1 item, 1 temporary item). Master files of an electronic information system used to manage the Army's financial and budget development process. Included are decision documents, command codes, and tables of allowance.

4. Department of Commerce, National Oceanic and Atmospheric Administration (N1-370-11-3, 2 items, 2 temporary items). Master files and hard copy outputs of law enforcement data relating to national marine fisheries cases, including incidents, fisheries, vessels, arrests, seized property, and evidence.

5. Department of Defense, Defense Finance and Accounting Service (N1-507-11-1, 455 items, 428 temporary items). Records relating to all aspects of the agency's mission, which includes paying service members, civilian employees, vendors, and contractors, providing business intelligence and finance and accounting information to Department of Defense (DOD) decision makers, and preparing annual financial statements for DOD. Proposed for permanent retention are high-level program planning and review records, war and mobilization plans, committee records, orders, management analyses summaries, mission policy and procedures files, organizational studies, publications, public affairs files, and legal opinions.

6. Department of Education (N1-441-11-1, 34 items, 32 temporary items). Department-wide grant administration and management files related to discretionary grants and grant competitions including cooperative agreements, research grants, and electronic information systems used to monitor and process grant data. Proposed for permanent retention are historically significant final grant products and reports to Congress.

7. Department of Homeland Security, U.S. Citizenship and Immigration Services (N1-566-11-2, 2 items, 2 temporary items). Draft accounts and draft applications in an electronic information system used for benefit applications that were initiated by a user but were not completed or submitted and automatic notifications sent to the account or application creator.

8. Department of Homeland Security, U.S. Secret Service (N1-87-11-4, 4 items, 3 temporary items). Records of division- and office-level strategic plans containing mission statements, goals, objectives and strategies. Included are the files and materials used to create the Agency Strategic Plan. Proposed for permanent retention are the Agency Strategic Plans.

9. Department of Justice, Bureau of Prisons (N1-129-09-33, 8 items, 8 temporary items). Agency-wide employee training course content and completion records.

10. Department of Justice, Federal Bureau of Investigation (N1-65-09-34, 5 items, 3 temporary items). Outputs and testing records of a Bureau-wide electronic information system used for continuity of operations planning. Proposed for permanent retention are master files and final reports.

11. Department of Justice, Federal Bureau of Investigation (N1-65-11-15, 2 items, 2 temporary items). Master files and outputs of an electronic information system used to track legal projects in the Office of General Counsel.

12. Department of Justice, Federal Bureau of Investigation (N1-65-11-20, 1 item, 1 temporary item). Master files of an electronic information system used to link and analyze textual and structured data for investigations.

13. Department of Justice, Federal Bureau of Investigation (N1-65-11-21, 4 items, 4 temporary items). Master files, outputs, and related records of an electronic information system used to search across agency databases to aggregate information for investigative purposes.

14. Department of Justice, Justice Management Division (DAA-0060-2011-0006, 1 item, 1 temporary item). Master files of an electronic information system used to process printing orders and bill customers.

15. Department of State, Bureau of Diplomatic Security (N1-59-10-20, 8 items, 8 temporary items). Records of the Office of Diplomatic Courier Service, including non-operational policy and program records, newsletters, reference guides, and an electronic information system containing travel expense information and trip reports.

16. Department of State, Office of the Secretary (N1-59-10-3, 5 items, 2 temporary items). Records of the Front Office of the Coordinator for Reconstruction and Stabilization, including shared drive files which contain copies of records maintained in hard copy. Proposed for permanent retention are paper copies of the Coordinator's chronological files and daily calendar, as well as front office country files.

17. Department of the Treasury, Internal Revenue Service (N1-58-11-22. 1 item, 1 temporary item). Reduction in retention period for withholding compliance records.

18. National Archives and Records Administration, Office of Administration (N1-64-11-2, 9 items, 9 temporary items). Records relating to the safety and occupational health program, including inspections, incident reports, standards, and training.

19. Presidio Trust, Agency-wide (N1-556-11-1, 5 items, 3 temporary items). Records of Information and Public Image Management functions within the Trust, including correspondence files, policies and procedures, publications, publishing guidelines, press releases, speeches and interviews, special use permits, public meeting records, requests for information including Freedom of Information Act (FOIA) and Privacy Act related records, and information technology management records. Proposed for permanent retention are records that document policies concerning system development and public relations, along with high-level communications concerning the Trust's mission.

20. Presidio Trust, Agency-wide (N1-556-11-2, 5 items, 3 temporary items). Records of Interpretation and Educational functions within the Trust, including correspondence files, volunteer program records, lesson plans and curricula, planning documents, educational products, and wayside documentation. Proposed for permanent retention are records that document the planning, development, policies and procedures of interpretive and educational activities.

Dated: August 22, 2011.
Paul M. Wester, Jr.,
Chief Records Officer for the U.S. Government.

[FR Doc. 2011-22041 Filed 8-26-11; 8:45 am]

BILLING CODE 7515-01-P